DEPARTMENT OF HOMELAND SECURITY

Border and Transportation Security Directorate

Submission for Review; Extension of Currently Approved Information Collection Requests for United States Visitor and Immigrant Status Indicator Technology Program (US-VISIT)

AGENCY: Border and Transportation Security Directorate, DHS.

ACTION: Notice; 30-day notice of information collections under review.

SUMMARY: The Department of Homeland Security (DHS) has submitted the following information collection request (ICR) 1600-0006 to the Office of Management and Budget (OMB) for review and clearance in accordance with the Paperwork Reduction Act of 1995. The information collection was previously published in the Federal Register on January 5, 2004, at 69 FR 479, allowing for OMB review and a 60-day public comment period. Comments received by DHS are being reviewed as applicable. The purpose of this notice is to allow an additional 30 days for public comments on the information collections under review.

DATES: Comments are encouraged and will be accepted until June 21, 2004.

ADDRESSES: Written comments and/or suggestions regarding the items contained in this notice should be directed to Desk Officer for Homeland Security, Room 10235, Office of Management and Budget, Washington, DC 20503.

FOR FURTHER INFORMATION CONTACT: Steve Yonkers, Privacy Officer, US-VISIT, (202) 298-5200 (this is not a toll free number).

SUPPLEMENTARY INFORMATION: This process is conducted in accordance with 5 CFR 1320.10. A copy of this ICR, with applicable supporting documentation, may be obtained by calling the Paperwork Reduction Act Contact listed above. The Office of Management and Budget is particularly interested in comments which:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Border and Transportation Security Directorate, Department of Homeland Security.

Title: United States Visitor and Immigrant Status Indicator Technology Program (US-VISIT).

Title of Form: No form. Collection of biometrics will be in electronic or photographic format.

OMB Number: 1600-0006.

Frequency: On occasion.

Affected Public: Individual aliens. Non-immigrant visa holders who seek admission to the United States at air and sea ports of entry and designated departure locations.

Estimate Number of Respondents: From January 5, 2004, to January 5, 2005, the number of nonimmigrant visa-holders required to provide biometrics at the air and sea ports of entry is anticipated to be approximately 24 million, comprised of approximately 19.3 million air travelers and 4.5 million sea travelers.

Estimated Time per Respondent: The average processing time per person for whom biometrics will be collected is approximately one minute and fifteen seconds at entry, with 15 seconds being the additional time added for biometric collection over and above the normal inspection processing time. The average additional processing time upon exit is estimated at one minute per person. There are no additional fees for traveling aliens to pay.

Estimated Burden Hours: Approximately 100,800.

Total Burden Cost (Capital/Startup): None.

Total Burden Cost (Operating/Maintaining): None.

Description: The biometric information to be collected is for nonimmigrant visa holders who seek admission to the United States at the air and sea ports of entry, and certain departure locations. The collection of information is necessary for the Department to continue its compliance with the mandates in section 303 of the Border Security Act, 8 U.S.C. 1732 and sections 403(c) and 414(b) of the USA PATRIOT Act, 8 U.S.C. 1365a note and 1379, for biometric verification of the identities of alien travelers and authentication of their biometric travel documents through the use of machine readers installed at all ports of entry. The arrival and departure inspection procedures are authorized by 8 U.S.C. 1225 and 1185.

Dated: May 17, 2004.
Mark Emery,
Chief Information Officer, Deputy CIO for DHS.

[FR Doc. 04-11431 Filed 5-19-04; 8:45 am]

BILLING CODE 4410-10-P